NATIONAL INDIAN GAMING COMMISSION

Notice of Approval of Class III Tribal Gaming Ordinances

AGENCY: National Indian Gaming Commission.

ACTION: Notice.

SUMMARY: The purpose of this notice is to inform the public of class III gaming ordinances approved by the Chairman of the National Indian Gaming Commission and to update and correct the last Notice published on August 26, 2002.

EFFECTIVE DATE: This notice is effective upon date of publication in the Federal Register.

FOR FURTHER INFORMATION CONTACT: Ms. Frances Fragua, Office of General Counsel at the National Indian Gaming Commission, 202/632-7003, or by facsimile at 202/632-7066 (not toll-free numbers).

SUPPLEMENTARY INFORMATION: The Indian Gaming Regulatory Act (IGRA) 25 U.S.C. 2701 et seq., was signed into law on October 17, 1988. The IGRA established the National Indian Gaming Commission (Commission). Section 2710 of the IGRA authorizes the Commission to approve class II and class III tribal gaming ordinances. Section 2710(d)(2)(B) of the IGRA as implemented by 25 CFR 522.8 (58 FR 5811 (January 22, 1993)) requires the Commission to publish, in the Federal Register, approved class III gaming ordinances.

The IGRA requires all tribal gaming ordinances to contain the same requirements concerning ownership of the gaming activity, use of net revenues, annual audits, health and safety, background investigation and licensing of key employees. The Commission, therefore, believes that publication of each ordinance in the Federal Register would be redundant and result in unnecessary cost to the Commission. The Commission believes that publishing a notice of approval of each class III gaming ordinance is sufficient to meet the requirements of 25 U.S.C. 2710(d)(2)(B). Also, the Commission will make copies of approved class III ordinances available to the public upon request. Requests can be made in writing to the Office of General Counsel, National Indian Gaming Commission (Attention: Legal Staff Assistant), 1441 L Street, NW., Suite 9100, Washington, DC 20005.

On August 26, 2002, the Commission published a list of tribes for which the Chairman had previously approved tribal gaming ordinances authorizing class III gaming. It was later discovered that this list was incomplete. Therefore, the following list of tribes constitutes an update and correction to the notice published on August 26, 2002.

1. Apache Tribe of Oklahoma

2. Auberry Big Sandy Rancheria

3. California Valley Miwok Tribe (FKA Sheep Ranch Tribe of We-Wuk Indians)

4. Fort Belknap Indian Community

5. Karuk Tribe of California

6. Manchester Band of Pomo Indians

7. Match-E-Be-She-Wish Band of Pottawatomi Indians

8. Otoe-Missouri Tribe of Oklahoma

9. Seneca-Cayuga Tribe of Oklahoma

10. Seneca Nation of Indians of New York

11. Shawnee Tribe of Oklahoma

12. Viejas Band of Mission Indians

13. Wichita and Affiliated Tribes of Oklahoma

Philip N. Hogen,
Chairman, National Indian Gaming Commission.

[FR Doc. 03-30949 Filed 12-15-03; 8:45 am]

BILLING CODE 7545-02-P